SMALL BUSINESS ADMINISTRATION

National Women's Business Council; Notice of Public Meeting

In accordance with the Women's Business Ownership Act, Public Law 106-554 as amended, the National Women's Business Council (NWBC) would like to announce a forthcoming public Council meeting. The meeting will be held on Wednesday, September 13, 2006, starting at 10 a.m. to 1 p.m. The meeting will be held at the Hall of States, 444 North Capitol Street, Suite #237, Rooms 333-335, Washington, DC 20001.

The purpose of the meeting is the swearing in of new members, an update of the Council's current projects, review of our FY 2007 budget, a discussion of project possibilities for the coming year and exchange ideas about goals for the women's business community for the next three, five and ten years.

Anyone wishing to attend the meeting should contact Katherine Stanley no later than Friday, September 8, 2006, by e-mail; katherine.stanley@sba.gov, or fax; 202-205-6825. Anyone wishing to make a presentation to the Council during the meeting must contact Margaret M. Barton in writing by Friday, September 8, 2006, at the National Women's Business Council, 409 Third Street, SW., Suite 210, Washington, DC 20024; e-mail; Margaret.barton@sba.gov or fax; 202-205-6825 in order to be put on the agenda.

Sincerely,
Stephen Galvan,
Chief Operating Officer.

[FR Doc. E6-14363 Filed 8-29-06; 8:45 am]

BILLING CODE 8025-01-P